DEPARTMENT OF TRANSPORTATION

Coast Guard

33 CFR Part 117

[CGD08-01-002]

RIN 2115-AE47

Drawbridge Operation Regulation; Inner Harbor Navigation Canal, New Orleans, LA

AGENCY: Coast Guard, DOT.

ACTION: Notice of proposed rulemaking.

SUMMARY: The Coast Guard is proposing a change to the regulation governing the operation of the SR 46 (St. Claude Avenue) bridge, mile 0.5 (GIWW mile 6.2 East of Harvey Lock), the SR 39 (Judge Seeber/Claiborne Avenue) bridge, mile 0.9 (GIWW mile 6.7E), and the Florida Avenue bridge, mile 1.7 (GIWW mile 7.5E), across the Inner Harbor Navigation Canal in New Orleans, Orleans Parish, Louisiana. The proposal would codify the historic accommodation with marine interests that allows the bridges to remain closed-to-navigation and open to vehicular traffic during the morning and afternoon rush hours. The proposed regulation would require the bridges to open on signal; except that, from 6:45 a.m. to 8:30 a.m. and from 4:45 p.m. to 6:45 p.m., Monday through Friday, except federal holidays, the draws need not open for the passage of vessels. The draws shall open at any time for a vessel in distress. This change would allow for the uninterrupted flow of commuter traffic while still providing for the reasonable needs of navigation.

DATES: Comments and related material must reach the Coast Guard on or before April 23, 2001.

ADDRESSES: You may mail comments to Commander (obc), Eighth Coast Guard District, 501 Magazine Street, New Orleans, Louisiana 70130-3396, or deliver them to room 1313 at the same address between 7 a.m. and 3 p.m., Monday through Friday, except Federal holidays. The Commander, Eighth Coast Guard District, Bridge Administration Branch maintains the public docket for this rulemaking. Comments and material received from the public, as well as documents indicated in this preamble as being available in the docket, will become part of this docket and will be available for inspection or copying at the Bridge Administration Branch, Eighth Coast Guard District between 7 a.m. and 3 p.m., Monday through Friday, except Federal holidays.

FOR FURTHER INFORMATION CONTACT: Mr. David Frank, Bridge Administration Branch, 504-589-2965.

SUPPLEMENTARY INFORMATION:

Request for Comments

We encourage you to participate in this rulemaking by submitting comments and related material. If you do so, please include your name and address, identify the docket number for this rulemaking (CGD08-01-002), indicate the specific section of this document to which each comment applies, and give the reason for each comment. Please submit all comments and related material in an unbound format, no larger than 8½ by 11 inches, suitable for copying. If you would like confirmation of receipt of your comments, please enclose a stamped, self-addressed postcard or envelope. We will consider all comments and material received during the comment period. We may change this proposed rule in view of comments received.

Public Meeting

We do not now plan to hold a public meeting. You may submit a request for a public meeting by writing to the Commander, Eighth Coast Guard District, Bridge Administration Branch at the address under ADDRESSES explaining why a public meeting would be beneficial. If we determine that a public meeting would aid this rulemaking, we will hold one at a time and place to be announced in the Federal Register.

Background and Purpose

To meet the needs of commuters who cross these three bridges in the morning and afternoon en route to and from work in the Lower Ninth Ward area of New Orleans and in St. Bernard Parish, the Coast Guard is proposing to codify the historic accommodation with marine interests that allows the bridges to remain closed-to-navigation and open to vehicular traffic during the morning and afternoon rush hours.

Concerns regarding the ability of vehicular traffic to transit across the Inner Harbor Navigation Canal date back to the 1970's. In June 1976, five New Orleans area legislators, in conjunction with the Dock Board, requested a change in the operating regulations governing their bridges across the Inner Harbor Navigation Canal. The Coast Guard spent many months attempting to reach an amiable resolution to the concerns of both vehicular and marine traffic. In April 1977, the Coast Guard began a test schedule to allow the three bridges to remain closed-to-navigation during the morning and evening while attempting to meet the reasonable needs of navigation.

In August 1977, a second schedule was tested which made some modifications to the original test schedule. No final rule was published following the test period; however, the schedule remained in effect and this schedule continued until 1988.

In 1988, the Louisiana Statute RS 34:28 was amended to require both the St. Claude Avenue and Claiborne Avenue bridges be kept open to vehicular traffic for extended periods during morning and evening rush hours. The Coast Guard objected to the statute stating that the federal government exercises jurisdiction over the operation of bridges over navigable waters. A subsequent Louisiana Attorney General's opinion on Act 453 of 1988 ruled it to be unconstitutional.

In December 1988, the Dock Board, the Corps of Engineers, a representative from the American Waterways Operators, and the Coast Guard met to discuss the operations of the bridges. It was reiterated that the St. Claude bridge, immediately adjacent to the south lock gate of the lock, was controlled by the operations of the lock. It was determined at this meeting that the lock would schedule a river-to-lake lockage followed immediately by a lake-to-river lockage to encompass the rush hour time frame. Following the meeting, another test schedule for the operation of the bridges was published in the Coast Guard Local Notice to Mariners, the local newspaper and by notice from the Port of New Orleans as follows:

(1). Morning Bridge Operations: 6:45 a.m.-8:15 a.m., Monday through Friday. (a). St. Claude Avenue bridge—Closed-to-navigation between 6:45 a.m. and 7 a.m. and remains closed for a continuous one hour period, with the next opening no earlier than 7:45 a.m.; (b). Claiborne Avenue bridge—Closed-to-navigation from 6:45 a.m. to 8:15 a.m.; (c). Florida Avenue bridge—Open to northbound and southbound navigation traffic during one opening not to exceed 10 minutes between 7 a.m. and 8 a.m.

(2). Afternoon Bridge Operations: 4:30 p.m.-6:30 p.m., Monday through Friday. (a). St. Claude Avenue bridge—Closed-to-navigation between 4:45 p.m. and 5:15 p.m. and remains closed for a continuous one hour period, with the next opening no earlier than 5:45 p.m.; (b). Claiborne Avenue bridge—Closed-to-navigation from 4:30 p.m. to 6:30 p.m.; (c). Florida Avenue bridge—Open to northbound and southbound navigation traffic during one opening not to exceed 10 minutes between 5 p.m. and 6 p.m.

This schedule was to be tested for a three-month period. However, during that three-month period, a vessel allision occurred at the Florida Avenue bridge which made the test invalid. The test was continued past this period and no Special Operation Regulation was ever completed.

In 1994, the Coast Guard wrote a letter to the Dock Board to request a meeting to discuss the operation of the lock and bridges as no official Special Operation Regulations had ever been established for the three bridges. Following the meeting, hours for closure for the St. Claude bridge were extended to 6:45 a.m. to 8:15 a.m. and 4:30 p.m. to 6:30 p.m. and the hours for closure for the Florida Avenue bridge were extended to 6:30 a.m. to 8:30 a.m. and 4:30 p.m. to 6:30 p.m.

Since 1988, our office has received only one complaint from a vehicular user of the St. Claude bridge regarding traffic delays at the bridge. No complaints have been received from waterway users.

During the past several years, although no regulation has ever been established, all parties have accepted the spirit of the “closure”.

The Coast Guard wishes to codify the accepted historic practices of these three bridges. Presently, the Inner Harbor Navigation Canal Lock averages 32 lockings per day. During the hours of 6:45 a.m. to 8:15 a.m., vehicular traffic averages between 400 and 600 vehicles westbound and between 100 and 200 vehicles eastbound per 15 minute period on the St. Claude Avenue bridge. During the hours of 4:45 p.m. to 6:15 p.m., vehicular traffic averages between 400 and 500 vehicles eastbound and between 100 and 200 vehicles westbound per 15 minute period on the St. Claude Avenue bridge. The Florida Avenue bridge averages approximately 1100 cars during the entire morning curfew and approximately 800 cars during the entire afternoon curfew period. Traffic counts for the SR 39 (Judge Seeber/Claiborne Avenue) were unavailable; however, Claiborne Avenue is the main artery for traffic between Orleans and St. Bernard Parishes and traffic counts would be expected to be higher on this roadway. The Claiborne Avenue bridge also provides a vertical clearance of 40 feet above mean high water in the closed-to-navigation position, which is significantly greater than the other two bridges.

Another factor to be considered is the relocation of the Industrial Canal Lock. The Corps of Engineers has begun driving test piles to relocate the existing lock. The new lock will be located between the Florida Avenue bridge and the Claiborne Avenue bridge. The Florida Avenue bridge has been declared an obstructive bridge and will be replaced within the next several years. During the relocation of the lock, the St. Claude Avenue bridge will be replaced by a new bridge. A temporary bridge is planned to be constructed while the existing bridge is removed and replaced. The Claiborne Avenue bridge will be modified to increase the elevation of the bridge to maintain the existing vertical clearance of the bridge following the relocation of the lock. The subject closures will help relieve traffic-related congestion resulting from construction. As of this date, only the Florida Avenue bridge is scheduled to be replaced. No other bridge permit applications have been received by the Coast Guard at this time.

The Coast Guard has reviewed the implications of the proposed regulations and their effect on the marine traffic transiting through this area. The proposed rule would establish the same operation schedules for all three draws to facilitate the flow of vehicular traffic during rush hours while still meeting the reasonable needs of navigation.

Based upon the information provided, the Coast Guard is proposing a change to the regulation governing the operation of the draws of the SR 46 (St. Claude Avenue) bridge, mile 0.5 (GIWW mile 6.2E), the SR 39 (Judge Seeber/Claiborne Avenue) bridge, mile 0.9 (GIWW mile 6.7E), and the Florida Avenue bridge, mile 1.7 (GIWW mile 7.5E), across the Inner Harbor Navigation Canal in New Orleans, Orleans Parish, Louisiana. The proposed regulation would require the bridges to open on signal; except that, from 6:45 a.m. to 8:30 a.m. and from 4:45 p.m. to 6:45 p.m., Monday through Friday, except federal holidays, the draws need not open for the passage of traffic. The draws shall open at any time for a vessel in distress.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10(e) of the regulatory policies and procedures of DOT is unnecessary.

This proposed rule maintains the existing historically accepted curfews with a minor change allowing the bridge to remain closed-to-navigation an additional 30 minutes.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following small entities: the owners or operators of vessels intending to transit the Inner Harbor Navigation Canal between mile 0.5 and mile 1.7 during the hours of 6:45 a.m. to 8:30 a.m. and 4:45 p.m. to 6:45 p.m., Monday through Friday except federal holidays.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact the Bridge Administration Branch, Eighth Coast Guard District at the address above.

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a state, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation. This proposal will change an existing special drawbridge operating regulation promulgated by a Coast Guard Bridge Administration Program action. A “Categorical Exclusion Determination” is available in the docket where indicated under ADDRESSES.

List of Subjects in 33 CFR Part 117

Bridges.

For the reasons set out in the preamble, the Coast Guard proposes to amend part 117 of title 33, Code of Federal Regulations, as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. In § 117.458, paragraphs (a) and (b) are redesignated as paragraphs (b) and (c) and a new paragraph (a) is added to read as follows:

§ 117.458 Inner Harbor Navigation Canal, New Orleans.

(a) The draws of the SR 46 (St. Claude Avenue) bridge, mile 0.5 (GIWW mile 6.2E), the SR 39 (Judge Seeber/Claiborne Avenue) bridge, mile 0.9 (GIWW mile 6.7E), and the Florida Avenue bridge, mile 1.7 (GIWW mile 7.5E), shall open on signal; except that, from 6:45 a.m. to 8:30 a.m. and from 4:45 p.m. to 6:45 p.m. , Monday through Friday, except federal holidays, the draws need not open for the passage of vessels. The draws shall open at any time for a vessel in distress.

* * * * *

Dated: February 12, 2001.
Paul J. Pluta,
Rear Admiral, U.S. Coast Guard, Commander, Eighth Coast Guard District.

[FR Doc. 01-4331 Filed 2-21-01; 8:45 am]

BILLING CODE 4910-15-P